DEPARTMENT OF COMMERCE

International Trade Administration

[A-427-801, A-428-801, A-475-801, A-588-804, A-485-801, A-559-801, A-401-801, A-412-801]

Antifriction Bearings (Other Than Tapered Roller Bearings) and Parts Thereof From France, Germany, Italy, Japan, Romania, Singapore, Sweden, and the United Kingdom; Notice of Extension of Time Limits for Preliminary Results of Antidumping Administrative Reviews

AGENCY: Import Administration, International Trade Administration, Department of Commerce.

ACTION: Notice of extension of time limits for preliminary results of antidumping duty administrative reviews.

EFFECTIVE DATE: February 3, 2000.

FOR FURTHER INFORMATION CONTACT: Richard Rimlinger, AD/CVD Enforcement, Import Administration, International Trade Administration, U.S. Department of Commerce, 14th Street and Constitution Avenue, N.W., Washington, D.C. 20230; telephone: (202) 482-4477.

The Applicable Statute

Unless otherwise indicated, all citations to the statute are references to the provisions effective January 1, 1995, the effective date of the amendments made to the Tariff Act of 1930 (the Act) by the Uruguay Round Agreements Act.

Extension of Time Limits for Preliminary Results

The Department of Commerce (the Department) has received requests to conduct administrative reviews of the antidumping duty orders on antifriction bearings (other than tapered roller bearings) and parts thereof (AFBs) from France, Germany, Italy, Japan, Romania, Singapore, Sweden, and the United Kingdom. On June 30, 1999, the Department initiated these administrative reviews covering the period May 1, 1998, through April 30, 1999.

Due to the large number of respondents involved in these reviews and the Department's resource constraints, it is not practicable to complete the AFB reviews within the time limits mandated by section 751(a)(3)(A) of the Act. Therefore, the Department is extending the due date for the preliminary results to March 30, 2000. The Department intends to issue the final results of reviews 120 days after the publication of the preliminary results. This extension of the time limit is in accordance with section 751(a)(3)(A) of the Act.

Dated: January 27, 2000.
Laurie Parkhill,
Acting Deputy Assistant Secretary for Import Administration.

[FR Doc. 00-2291 Filed 2-2-00; 8:45 am]

BILLING CODE 3510-DS-P